ENVIRONMENTAL PROTECTION AGENCY

[FRL OP-OFA-073]

Environmental Impact Statements; Notice of Availability

Responsible Agency: Office of Federal Activities, General Information 202-564-5632 or https://www.epa.gov/nepa.

Weekly receipt of Environmental Impact Statements (EIS)

Filed June 5, 2023 10 a.m. EST Through June 12, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230073, Final, USACE, TX, Harris Reservoir Expansion Project Final Environmental Impact Statement Prepared for Permit Application No. SWG-2016-01027, Review Period Ends: 07/17/2023, Contact: Jayson Hudson 409-766-3108.

EIS No. 20230074, Final, BLM, OR, Southeastern Oregon Proposed Resource Management Plan and Final EIS, Review Period Ends: 07/17/2023, Contact: Shane DeForest 541-473-3144.

EIS No. 20230075, Draft, USACE, VA, SPSA Landfill Expansion DEIS, Comment Period Ends: 08/15/2023, Contact: Melissa Nash 757-201-7489.

Dated: June 12, 2023.
Cindy S. Barger,
Director, NEPA Compliance Division, Office of Federal Activities.

[FR Doc. 2023-12915 Filed 6-15-23; 8:45 am]

BILLING CODE 6560-50-P